DEPARTMENT OF ENERGY

[FE Docket No. 05-11-NG, 05-15-NG, 05-12-LNG, 05-14-NG, 05-13-LNG, 05-16-NG, 05-17-NG, 05-18-NG, 04-19-NG, 05-19-NG, 05-20-NG, 05-21-NG, 05-23-NG, 05-26-NG, and 05-22-NG]

Office of Fossil Energy; Cargill, Incorporated, Progas U.S.A. Inc., Statoil Natural Gas LLC, Bay State Gas Company, Distrigas LLC, H.Q. Energy Services (U.S.) Inc., Avista Energy, Inc., Sempra Energy Trading Corp., Coral Canada U.S. Inc., Eagle Energy Partners I, L.P., Cinergy Marketing 7 Trading, L.P., BP West Coast Products LLC, Mexicana de Cobre, S.A. de C.V., Goldendale Energy Center, LLC, Dartmouth Power Associates Limited Partnership; Orders Granting and Vacating Authority to Import and Export Natural Gas, Including Liquefied Natural Gas

AGENCY: Office of Fossil Energy, DOE.

ACTION: Notice of orders.

SUMMARY: The Office of Fossil Energy (FE) of the Department of Energy gives notice that during March and April 2005, it issued Orders granting and vacating authority to import and export natural gas, including liquefied natural gas. These Orders are summarized in the attached appendix and may be found on the FE Web site at http://www.fe.doe.gov (select gas regulation). They are also available for inspection and copying in the Office of Natural Gas Regulatory Activities, Docket Room 3E-033, Forrestal Building, 1000 Independence Avenue, SW., Washington, DC 20585, (202) 586-9478. The Docket Room is open between the hours of 8 a.m. and 4:30 p.m., Monday through Friday, except Federal holidays.

Issued in Washington, DC, on May 10, 2005.
R.F. Corbin,
Manager, Natural Gas Regulation, Office of Natural Gas Regulatory Activities, Office of Fossil Energy.

Appendix—Orders Granting Import/Export Authorizations

Order No. | Date issued | Importer/exporter FE docket No. | Import volume | Export volume | Comments
2075 | 3-9-05 | Cargill, Incorporated, 05-11-NG | 2,000 Bcf |  | Import and export a combined total of natural gas from and to Canada and Mexico, beginning on April 15, 2005, and extending through April 14, 2007.
2076 | 3-15-05 | ProGas U.S.A. Inc., 05-15-NG | 800 Bcf | 200 Bcf | Import and export natural gas from and to Canada, beginning on April 1, 2005, and extending through March 31, 2007.
2077 | 3-15-05 | Statoil Natural Gas LLC, 05-12-LNG | 200 Bcf |  | Import LNG from various international sources, beginning on June 1, 2006, and extending through May 31, 2007.
2078 | 3-16-05 | Bay State Gas Company, 05-14-NG | 60 Bcf |  | Import and export a combined total of natural gas from and to Canada, beginning on April 1, 2005, and extending through March 31, 2007.
2079 | 3-17-05 | Distrigas LLC, 05-13-LNG | 100 Bcf |  | Import LNG from various international sources, beginning on December 9, 2004, and extending through December 8, 2006.
2080 | 3-17-05 | H.Q. Energy Services (U.S.) Inc., 05-16-NG | 200 Bcf | 200 Bcf | Import and export natural gas from and to Canada and Mexico, beginning on May 1, 2005, and extending through April 30, 2007.
2081 | 3-17-05 | Avista Energy, Inc., 05-17-NG |  | 219 Bcf | Export natural gas to Canada, beginning on May 1, 2005, and extending through April 30, 2007.
2082 | 3-23-05 | Sempra Energy Trading Corp., 05-18-NG | 300 Bcf 300 Bcf 300 Bcf |  | Import and export a combined total of natural gas from and to Canada, and import and export natural gas from and to Mexico, and import LNG from other international sources, beginning on June 16, 2005, and extending through June 15, 2007.
1950-A | 4-6-05 | Coral Canada U.S. Inc., 04-19-NG |  |  | Vacate blanket import and export authority.
2083 | 4-13-05 | Eagle Energy Partners I, L.P., 05-19-NG | 100 Bcf |  | Import and export a combined total of natural gas from and to Canada, beginning on April 13, 2005, and extending through April 12, 2007.
2084 | 4-25-NG | Cinergy Marketing & Trading, L.P., 05-20-NG | 730 Bcf |  | Import and export a combined total of natural gas from and to Canada, beginning on June 1, 2005, and extending through May 31, 2007.
2085 | 4-25-05 | BP West Coast Products LLC, 05-21-NG | 25 Bcf | 25 Bcf | Import and export natural gas from and to Canada, beginning on July 2, 2005, and extending through July 1, 2007.
2086 | 4-27-05 | Mexicana de Cobre, S.A. De C.V., 05-23-NG |  | 17.52 Bcf | Export natural gas to Mexico, beginning on April 27, 2005, and extending though April 26, 2007.
2087 | 4-27-05 | Goldendale Energy Center, LLC, 05-26-NG | 36.5 Bcf |  | Import and export a combined total of natural gas from and to Canada, beginning on May 1, 2005, and extending through April 30, 2007.
2088 | 4-27-05 | Dartmouth Power Associates Limited Partnership, 05-22-NG | 11.68 Bcf |  | Import natural gas from Canada, beginning on May 7, 2005, and extending through May 6, 2007.

[FR Doc. 05-9871 Filed 5-17-05; 8:45 am]

BILLING CODE 6450-01-P